DEPARTMENT OF DEFENSE

Office of the Secretary

Defense Science Board

AGENCY: Department of Defense.

ACTION: Notice of advisory committee meeting.

SUMMARY: The Defense Science Board Task Force on Unmanned Aerial Vehicles (UAV) and Uninhabited Combat Aerial Vehicles (UCAV) will meet in closed session on October 7, 2002; October 29-30, 2002; and December 3, 2002, at Strategic Analysis Inc., 3601 Wilson Boulevard, Arlington, VA. The Task Force will review UAV/UCAV systems with special emphasis on affordability and increasing costs, interoperability disconnects, communications architectures to include bandwidth and redundancy, accident rates, operational control in both FAA airspace and military restricted airspace, survivability, military utility analysis, and management approaches.

The mission of the Defense Science Board is to advise the Secretary of Defense and the Under Secretary of Defense for Acquisition, Technology & Logistics on scientific and technical matters as they affect the perceived needs of the Department of Defense. At these meetings, the Defense Science Board Task Force will identify principal impediments to full and rapid exploitiation of the joint warfighting potential of UAW and UCAV systems and, further, recommend how these constraints might be mitigated or removed.

In accordance with section 10(d) of the Federal Advisory Committee Act, Pub. L. No. 92-463, as amended (5 U.S.C. App. II), it has been determined that these Defense Science Board Task Force meetings concern matters listed in 5 U.S.C. 552b(c)(1) and that, accordingly, these meetings will be closed to the public.

Dated: September 18, 2002.
Patricia L. Toppings,
Alternative OSD Federal Register Liaison Officer, Department of Defense.

[FR Doc. 02-24188 Filed 9-23-02; 8:45 am]

BILLING CODE 5001-08-M